DEPARTMENT OF DEFENSE

Office of the Secretary

[Docket ID: DoD-2010-OS-0049]

Privacy Act of 1974; System of Records

AGENCY: Defense Intelligence Agency, DoD.

ACTION: Notice to amend a system of records.

SUMMARY: The Defense Intelligence Agency is proposing to amend a system in its existing inventory of records systems subject to the Privacy Act of 1974, (5 U.S.C. 552a), as amended.

DATES: This proposed action will be effective without further notice on May 17, 2010 unless comments are received that would result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the Defense Intelligence Agency, DAN 1-C, 600 MacDill Blvd., Washington, DC 20340-0001.

The specific changes to the record system being amended are set forth below followed by the notice, as amended, published in its entirety. The proposed amendment is not within the purview of subsection (r) of the Privacy Act of 1974 (5 U.S.C. 552a), as amended, which requires the submission of new or altered systems reports.

Mitchell S. Bryman,
Alternate OSD Federal Register Liaison Officer, Department of Defense.

LDIA 06-0004

System name:

Recall Rosters (September 5, 2006; 71 FR 52324).

Changes:

* * * * *

Categories of individuals covered by the system:

Delete entry and replace with “Civilian employees, military personnel, and contractors employed, assigned, or detailed to the Defense Intelligence Agency.”

Categories of records in the system:

Delete entry and replace with “Individual's name, organizational and home address, work, home, cellular and pager numbers, home e-mail account, emergency contact information, contact listing files, organizational telephone directories, and listing of office personnel.”

Authority for maintenance of the system:

Delete entry and replace with “DoD Directive 3020.26 Department of Defense Continuity Programs; DIA(I) 2000.3 Antiterrorism (AT) Program; and DIA Chief of Staff Memo, U-1950/CS Emergency Notification System.”

Purpose(s):

Delete entry and replace with “To enable the DIA to recall personnel to their place of duty, for use in emergency notifications, and to perform relevant functions, requirements, and actions consistent with managerial functions during an emergency.”

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of DIA's compilation of systems of records notices apply to this system.”

Storage:

Delete entry and replace with “Paper and electronic storage media.”

Retrievability:

Delete entry and replace with “By last name of the individual.”

Safeguards:

Delete entry and replace with “Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access is limited to persons responsible for servicing and authorized to use the system. Removal of information beyond DoD control is authorized and must be safeguarded when not in use.”

Retention and disposal:

Delete entry and replace with “Records are temporary and destroyed when the individual is no longer with the agency. Electronic records are deleted from the system, paper records are destroyed by shredding, burning or pulping.”

* * * * *

Notification procedure:

Delete entry and replace with “Individuals seeking to determine whether information about themselves is contained in this system of records should address written inquiries to the DIA Freedom of Information Act Office (DAN-1A), Defense Intelligence Agency, 200 MacDill Blvd, Washington, DC 20340-5100.

Request should contain the individual's full name, current address, and telephone number.”

Record access procedures:

Delete entry and replace with “Individuals seeking access to information about themselves, contained in this system of records, should address written inquiries to the DIA Freedom of Information Act Office, Defense Intelligence Agency (DAN-1A), 200 MacDill Blvd, Washington, DC 20340-5100.”

Request should contain the individual's full name, current address, and telephone number.”

Contesting record procedures:

Delete entry and replace with “DIA's rules for accessing records, for contesting contents and appealing initial agency determinations are published in DIA Instruction 5400.001, ‘Defense Intelligence Agency Privacy Program’; or may be obtained from the system manager.”

Record source categories:

Delete entry and replace with “The individual.”

* * * * *

LDIA 06-0004

System name:

Recall Rosters.

System location:

DIA organizational elements and offices.

Categories of individuals covered by the system:

Civilian employees, military personnel, and contractors employed, assigned, or detailed to the Defense Intelligence Agency.

Categories of records in the system:

Individual's name, organizational and home address, work, home, cellular and pager numbers, home e-mail account, emergency contact information, contact listing files, organizational telephone directories, and listing of office personnel.

Authority for maintenance of the system:

DoD Directive 3020.26 Department of Defense Continuity Programs; DIA(I) 2000.3 Antiterrorism (AT) Program; and DIA Chief of Staff Memo, U-1950/CS Emergency Notification System.

Purpose(s):

To enable the DIA to recall personnel to their place of duty, for use in emergency notifications, and to perform relevant functions, requirements, and actions consistent with managerial functions during an emergency.

Routine Uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of DIA's compilation of systems of records notices apply to this system.

Policies and practices for storing, retrieving, accessing, retaining, and disposing of records in the system:

Storage:

Paper and electronic storage media.

Retrievability:

By last name of the individual.

Safeguards:

Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access is limited to persons responsible for servicing and authorized to use the system. Removal of information beyond DoD control is authorized and must be safeguarded when not in use.

Retention and disposal:

Records are temporary and destroyed when the individual is no longer with the agency. Electronic records are deleted from the system, paper records are destroyed by shredding, burning or pulping.

System manager(s) and address:

DIA Privacy Official, Defense Intelligence Agency (DAN-1C), 200 MacDill Blvd, Washington, DC 20340-5100.

Notification procedure:

Individuals seeking to determine whether information about themselves is contained in this system of records should address written inquiries to the DIA Freedom of Information Act Office (DAN-1A), Defense Intelligence Agency, 200 MacDill Blvd, Washington, DC 20340-5100.

Request should contain the individual's full name, current address, and telephone number.

Record access procedures:

Individuals seeking access to information about themselves, contained in this system of records, should address written inquiries to the DIA Freedom of Information Act Office, Defense Intelligence Agency (DAN-1A), 200 MacDill Blvd, Washington, DC 20340-5100.

Request should contain the individual's full name, current address, and telephone number.

Contesting record procedures:

DIA's rules for accessing records, for contesting contents and appealing initial agency determinations are published in DIA Instruction 5400.001 “Defense Intelligence Agency Privacy Program”; or may be obtained from the system manager.

Record source categories:

The individual.

Exemptions claimed for the system:

None.

[FR Doc. 2010-8740 Filed 4-15-10; 8:45 am]

BILLING CODE 5001-06-P